DEPARTMENT OF COMMERCE

National Oceanic and Atmospheric Administration

50 CFR Part 679

[Docket No. 001114320-1191-02; I.D. 080400B]

RIN 0648-AN01

Fisheries of the Exclusive Economic Zone Off Alaska; Recordkeeping and Reporting Requirements; Alaska Commercial Operator’s Annual Report; Correction

AGENCY: National Marine Fisheries Service (NMFS), National Oceanic and Atmospheric Administration (NOAA), Commerce.

ACTION: Final rule; correcting amendments.

SUMMARY: This document contains corrections to the final rule for the Alaska Commercial Operator’s Annual Report (COAR) that was published in the Federal Register on August 20, 2001.

DATES: Effective November 1, 2001.

FOR FURTHER INFORMATION CONTACT: Patsy A. Bearden, 907-586-7008.

SUPPLEMENTARY INFORMATION: A final rule was published in the Federal Register on 66 FR 43524 (August 20, 2001), to require groundfish motherships and catcher/processors to submit annually to the State of Alaska, Department of Fish & Game (ADF&G), a COAR.

Several errors were made in Tables 14A, 15, 16, and 18 to 50 CFR part 679. These tables are corrected and reprinted as follows:

List of Subjects in 50 CFR Part 679

Alaska, Fisheries, Recordkeeping and reporting requirements.

Accordingly, 50 CFR part 679 is amended by making the following corrections:

PART 679—FISHERIES OF THE EXCLUSIVE ECONOMIC ZONE OFF ALASKA

1. The authority citation for part 679 continues to read as follows:

Authority: 16 U.S.C. 773 et seq., 1801 et seq., and 3631 et seq.

Table 14A to Part 679 [Corrected]

1. Beginning on page 43527, Table 14A is corrected to read as follows:

Table 14a to Part 679.—Port of Landing Codes, Alaska, Including CDQ and IFQ Primary Ports
Port Name | NMFS Code | ADF&G Code | CDQ/IFQ Primary Ports for Vessel Clearance (X indicates an authorized IFQ port; see § 679.5 (l)(5)(vi)): CDQ/IFQ | CDQ/IFQ Primary Ports for Vessel Clearance (X indicates an authorized IFQ port; see § 679.5 (l)(5)(vi)): North Latitude | CDQ/IFQ Primary Ports for Vessel Clearance (X indicates an authorized IFQ port; see § 679.5 (l)(5)(vi)): West Longitude
Adak | 186 | ADA |  |  |
Akutan | 101 | AKU | X | 54°08′05″ | 165°46′20″
Akutan Bay | 102 |  |  |  |
Alitak | 103 | ALI |  |  |
Anchor Point | 104 |  |  |  |
Anchorage | 105 | ANC |  |  |
Angoon | 106 | ANG |  |  |
Aniak |  | ANI |  |  |
Anvik |  | ANV |  |  |
Atka | 107 | ATK |  |  |
Auke Bay | 108 |  |  |  |
Baranof Warm Springs | 109 |  |  |  |
Beaver Inlet | 110 |  |  |  |
Bethel |  | BET |  |  |
Captains Bay | 112 |  |  |  |
Chefornak | 189 |  |  |  |
Chignik | 113 | CHG |  |  |
Chinitna Bay | 114 |  |  |  |
Cordova | 115 | COR | X | 60°33′00″ | 145°45′00″
Craig | 116 | CRG | X | 55°28′30″ | 133°09′00″
Dillingham | 117 | DIL |  |  |
Douglas | 118 |  |  |  |
Dutch Harbor/Unalaska | 119 | DUT | X | 53°53′27″ | 166°32′05″
Edna Bay | 121 |  |  |  |
Egegik | 122 | EGE |  |  |
Ekuk |  | EKU |  |  |
Elfin Cove | 123 | ELF |  |  |
Emmonak |  | EMM |  |  |
Excursion Inlet | 124 | XIP |  |  |
False Pass | 125 | FSP |  |  |
Fairbanks |  | FBK |  |  |
Galena |  | GAL |  |  |
Glacier Bay |  | GLB |  |  |
Glennallen |  | GLN |  |  |
Gustavus | 127 | GUS |  |  |
Haines | 128 | HNS |  |  |
Halibut Cove | 130 |  |  |  |
Hollis | 131 |  |  |  |
Homer | 132 | HOM | X | 59°38′40″ | 151°33′00″
Hoonah | 133 | HNH |  |  |
Hooper Bay | 188 |  |  |  |
Hydaburg |  | HYD |  |  |
Hyder | 134 | HDR |  |  |
Ikatan Bay | 135 |  |  |  |
Juneau | 136 | JNU |  |  |
Kake | 137 | KAK |  |  |
Kaltag |  | KAL |  |  |
Kasilof | 138 | KAS |  |  |
Kenai | 139 | KEN |  |  |
Kenai River | 140 |  |  |  |
Ketchikan | 141 | KTN | X | 55°20′30″ | 131°38′45″
King Cove | 142 | KCO | X | 55°03′20″ | 162°19′00″
King Salmon | 143 | KNG |  |  |
Kipnuk | 144 |  |  |  |
Klawock | 145 | KLA |  |  |
Kodiak | 146 | KOD |  |  |
Kotzebue |  | KOT |  |  |
La Conner |  | LAC |  |  |
Mekoryuk | 147 |  |  |  |
Metlakatla | 148 | MET |  |  |
Moser Bay |  | MOS |  |  |
Naknek | 149 | NAK |  |  |
Nenana |  | NEN |  |  |
Nikiski (or Nikishka) | 150 | NIK |  |  |
Ninilchik | 151 | NIN |  |  |
Nome | 152 | NOM |  |  |
Nunivak Island |  | NUN |  |  |
Old Harbor | 153 | OLD |  |  |
Other¹ | 499 | UNK |  |  |
Pelican | 155 | PEL | X | 57°57′30″ | 136°13′30″
Petersburg | 156 | PBG | X | 56°48′10″ | 132°58′00″
Point Baker | 157 |  |  |  |
Port Alexander | 158 | PAL |  |  |
Port Armstrong |  | PTA |  |  |
Port Bailey | 159 | PTB |  |  |
Port Graham | 160 | GRM |  |  |
Port Lions |  | LIO |  |  |
Port Moller |  | MOL |  |  |
Port Protection | 161 |  |  |  |
Portage Bay (Petersburg) | 162 |  |  |  |
Quinhagak | 187 |  |  |  |
Resurrection Bay | 163 |  |  |  |
Sand Point | 164 | SPT | X | 55°20′15″ | 160°30′00″
Savoonga | 165 |  |  |  |
Seldovia | 166 | SEL |  |  |
Seward | 167 | SEW | X | 60°06′30″ | 149°26′30″
Sitka | 168 | SIT | X | 57°03′ | 135°20′
Skagway | 169 | SKG |  |  |
Soldotna |  | SOL |  |  |
St. George | 170 | STG |  |  |
St. Lawrence | 171 |  |  |  |
St. Mary |  | STM |  |
St. Paul | 172 | STP | X | 57°07′20″ | 170°16′30″
Tee Harbor | 173 |  |  |  |
Tenakee Springs | 174 | TEN |  |  |
Thorne Bay | 175 |  |  |  |
Togiak | 176 | TOG |  |  |
Toksook Bay | 177 |  |  |  |
Tununak | 178 |  |  |  |
Ugadaga Bay | 179 |  |  |  |
Ugashik |  | UGA |  |  |
Unalakleet |  | UNA |  |  |
Valdez | 181 | VAL |  |  |
Wasilla |  | WAS |  |  |
West Anchor Cove | 182 |  |  |  |
Whittier | 183 | WHT |  |  |
Wrangell | 184 | WRN |  |  |
Yakutat | 185 | YAK | X | 59°33′ | 139°44′
¹ To report a landing at a location not currently assigned a location code number: Use the code for “Other” for the state or country at which the landing occurs and notify NMFS of the actual location so that the list may be updated. For example, to report a landing for Levelock, Alaska if there is currently no code assigned, use “499,” “Other,” AK.”

2. On page 43530, Table 15 is corrected to read as follows:

Table 15 to Part 679.—Gear Codes, Descriptions, and Use (X indicates where this code is used)
Name of Gear | NMFS Logbooks and Forms¹ | Electronic WPR & Check-in/out Code¹ | Gear Code, Numeric | Use Numeric Code to Complete the Following:: Shoreside Electronic Logbook (SPELR) | Use Numeric Code to Complete the Following:: IFQ Terminal & Forms | Use Numeric Code to Complete the Following:: ADF&G COAR
Diving |  | OTH | 11 | X |  | X
Dredge |  | OTH | 22 | X |  | X
Dredge, hydro/mechanical |  | OTH | 23 | X |  | X
Fish wheel |  | OTH | 08 | X |  | X
Gillnet, drift |  | OTH | 03 | X |  | X
Gillnet, herring |  | OTH | 34 | X |  | X
Gillnet, set |  | OTH | 04 | X |  | X
Gillnet, sunken |  | OTH | 41 | X |  | X
Hand line/jig/troll (IFQ name: hand troll) |  | ⁽¹⁾ | 05 | X | X | X
Handpicked |  | OTH | 12 | X |  | X
Hatchery |  | n/a | 77 | X |  | X
Hook-and-line | X | HAL | 61 | X | X | X
Jig, mechanical (IFQ name: jigs) | X | JIG | 26 | X | X | X
Net,dip |  | OTH | 13 | X |  | X
Net,ring |  | OTH | 10 | X |  | X
Other/specify | X | OTH | 99 | X |  | X
Pair Trawl |  |  | 37 |  |  | X
Pot | X | POT | 91 | X | X | X
Pound |  | OTH | 21 | X |  | X
Seine,purse |  | OTH | 01 | X |  | X
Seine,beach |  | OTH | 02 | X |  | X
Shovel |  | OTH | 18 | X |  | X
Trap |  | OTH | 90 | X |  | X
Trawl, beam |  | ⁽¹⁾ | 17 | X |  | X
Trawl, double otter |  | ⁽¹⁾ | 27 | X |  | X
Trawl, nonpelagic/bottom | X | NPT | 07 | X |  | X
Trawl, pelagic/midwater | X | PTR | 47 | X |  | X
Troll, dinglebar | X | TROLL | 25 | X | X | X
Troll, power gurdy | X | TROLL | 15 | X | X | X
Weir |  | OTH | 14 | X |  | X
¹ For logbooks, forms, electronic WPR, electronic check-in/out reports: all trawl gear must be reported as either nonpelagic or pelagic trawl

3. On page 43531, Table 16 is corrected to read as follows:

Table 16 to Part 679.—Area Codes and Descriptions for Use with State of Alaska ADF&G Commercial Operator’s Annual Report (COAR)
COAR: Name (Code) | Species | ADF&G Fisheries Management Areas | Area Description in ADF&G Regulations
Alaska Peninsula South Peninsula (MS) North Peninsula (MN) | King Crab: AK Peninsula/Aleutian Islands Salmon | M M M | 5 AAC 34.500 5 AAC 12.100 (Aleutians) 5 AAC 09.100 (AK Peninsula)
| Herring | M | 5 AAC 27.600
Bering Sea: Pribilof Island (Q1) St. Matthew Island Q2) St. Lawrence Island (Q4) | Bering Sea King Crab Bering Sea/Kotzebue Herring | Q Q | 5 AAC 34.900 5 AAC 27.900
Bristol Bay (T) | King Crab Salmon Herring | T T T | 5 AAC 34.800 5 AAC 06.100 5 AAC 27.800
Chignik (L) | Groundfish Herring Salmon | L L L | 5 AAC 28.500 5 AAC 27.550 5 AAC 15.100
Cook Inlet: Lower Cook Inlet (HL) Upper Cook Inlet (HU) | Groundfish Herring Cook Inlet Shrimp Outer Cook Inlet Shrimp Dungeness Crab King Crab Tanner Crab Miscellaneous Shellfish Salmon | H H H H H H H H H | 5 AAC 28.300 5 AA 27.400 5 AAC 31.300 5 AA 31.400 5 AA 32.300 5 AA 34.300 5 AA 35.400 5 AA 38.300 5 AA 21.100
Dutch Harbor (O) | Aleutian Islands King Crab | O | 5 AA 34.600
EEZ (Federal waters of BSAI (FB) | Groundfish | n/a | n/a
GOA (FG) | Atka-Amlia Islands Salmon | n/a | 5 AAC 11.1010
Kodiak (western GOA) (K) | Groundfish Herring King Crab Salmon Shrimp Dungeness Crab Tanner Crab Miscellaneous Shellfish | K K K K J J J J | 5 AAC 28.400 5 AAC 27.500 5 AAC 34.400 5 AAC 18.100 5 AAC 31.500 5 AAC 32.400 5 AAC 35.500 5 AAC 38.400
Kotzebue (X) | Salmon | X | 5 AAC 03.100
Kuskokwim: Kuskokwim River/Bay (W1) Security Cove (W2) Goodnews Bay (W3) Nelson Island (W4) Ninivak Island (W5) Cape Avinof (W6) | Salmon Herring | W W | 5 AAC 07.100 5AAC 27.870
Norton Sound (Z) | Norton Sound-Port Clarence Salmon Norton Sound-Port Clarence King Crab | Z | 5 AAC 04.100
Prince William Sound (E) | Groundfish Herring Shrimp Dungeness Crab King Crab Tanner Crab Miscellaneous Shellfish Salmon | E E E E E E E E | 5 AAC 28.200 5 AAC 27.300 5 AAC 31.200 5 AAC 32.200 5 AAC 34.200 5 AAC 35.300 5 AAC 38.200 5 AAC 24.100
Southeast: Juneau/Haines (A1) Yakutat (A2) Ketchikan/Craig (B) Petersburg/Wrangell (C) Sitka/Pelican (D) | Groundfish Southeast (w/o Yakutat) Herring Yakutat Herring Southeast (w/o Yakutat) Shrimp Yakutat Shrimp Southeast (w/o Yakutat) Dungeness Crab Yakutat Dungeness Crab Southeast (w/o Yakutat) Dungeness, King Crab Yakutat King Crab Southeast (w/o Yakutat) Tanner Crab Yakutat Tanner Crab Southeast (w/o Yakutat) Miscellaneous Shellfish Yakutat Miscellaneous Shellfish Southeast (w/o Yakutat) Salmon Yakutat Salmon | A A D A D A D A D A D A D A D | 5 AAC 28.100 5 AAC 27.100 5 AAC 27.200 5 AAC 31.100 5 AAC 31.150 5 AAC 32.100 5 AAC 32.155 5 AAC 34.100 5 AAC 34.160 5 AAC 35.100 5 AAC 35.160 5 AAC 38.100 5 AAC 38.160 5 AAC 33.100 5 AAC 29.010 5 AAC 30.100
Yukon River: Lower Yukon (YL) Upper Yukon (YU) | Yukon-Northern Salmon | Y | 5 AAC 05.100

4. On page 43533, Table 18 is corrected to read as follows:

Table 18 to Part 679.—Required Buying and Production Forms for Use with State of Alaska Commercial Operator’s Annual Report (COAR)
Fishery | Form Number and Name
Salmon | Salmon Buying (A)(1) Seine gear (A)(1) Gillnet gear (A)(2) Troll gear (A)(2) Hatchery (A)(3) Miscellaneous gear King Salmon Production (B)(1) Production (B)(1) Canned Production Sockeye Salmon Production: (B)(2)(i) Production (B)(2)(ii) Canned Production Coho Salmon Production (B)(3)(i) Production (B)(3)(ii) Canned Production Pink Salmon Production (B)(4)(i) Production (B)(4)(ii) Canned Production Chum Salmon Production (B)(5)(i) Production (B)(5)(ii) Canned Production Salmon Roe & Byproduct Production (B)(6)(i) Roe (B)(6)(ii) Byproduct Production
Herring | Herring Buying (C)(1)(i) Seine gear (C)(1)(ii) Gillnet gear (C)(2)(i) Gillnet gear (C)(2)(ii) Pound gear (C)(2)(iii) Hand-pick gear
| Herring Production (D)(1)(i) Production (D)(1)(ii) Byproduct Production
Crab | (E)Crab Buying (F) Crab Production
Shrimp/Miscellaneous Shellfish | (G)Shrimp/Misc.Shellfish Buying (G)(1)(i) Trawl gear (G)(1)(ii) Pot gear (G)(1)(iii) Diving/picked gear (G)(1)(iv) Other gear (specify) (H) Shrimp/Misc. Shellfish/Finfish Production
Groundfish | (I)(1) Groundfish Buying (I)(2) Groundfish Buying (J)(1) Groundfish Production (J)(2) Groundfish Production
Halibut | (K) Halibut Buying & Production
Custom Production | Custom Production (L)(1) Associated Processors (L)(1)(i) Custom Fresh/Frozen (L)(1)(ii) Misc. production (L)(1)(iii) Custom Canned Production (L)(2) (additional sheet)
PRICES NOT FINAL | (M)(1) Fish Buying Retro Payments (M)(2) Post-season Adjustments

October 24, 2001.
William T. Hogarth,
Assistant Administrator for Fisheries, National Marine Fisheries

[FR Doc. 01-27402 Filed 10-31-01: 8:45 am]

BILLING CODE 3510-22-S